DEPARTMENT OF HOMELAND SECURITY

[Docket No. DHS-2009-0034]

National Protection and Programs Directorate, Office of Infrastructure Protection; Submission for Chemical Facility Anti-Terrorism Standards Chemical-terrorism Vulnerability Information (CVI) Information Collection 1670-NEW

AGENCY: National Protection and Programs Directorate, Office of Infrastructure Protection, Infrastructure Security Compliance Division, DHS.

ACTION: 60-Day Notice and request for comments: New information collection request 1670-NEW.

SUMMARY: The Department of Homeland Security, National Protection and Programs Directorate, Office of Infrastructure Protection, Infrastructure Security Compliance Division (ISCD) will be submitting the following information collection request (ICR) to the Office of Management and Budget (OMB) for review and clearance in accordance with the Paperwork Reduction Act of 1995. The information collection is a new information collection. The purpose of this notice is to solicit comments during a 60-day public comment period prior to the submission of this collection to OMB. The submission describes the nature of the information collection, the categories of respondents, the estimated burden and cost.

DATES: Comments are encouraged and will be accepted until August 31, 2009. This process is conducted in accordance with 5 CFR 1320.8.

ADDRESSES: Interested persons are invited to submit comments on the proposed information collection through Federal Rulemaking Portal at http://www.regulations.gov. Follow the instructions for submitting comments. Comments must be identified by docket number DHS-2009-0034.

FOR FURTHER INFORMATION CONTACT: A copy of this ICR, with applicable supporting documentation, may be obtained through Federal Rulemaking Portal at http://www.regulations.gov.

SUPPLEMENTARY INFORMATION:

Program Description

The Chemical Facility Anti-Terrorism Standards (CFATS), 6 CFR Part 27, are the Department's regulations under Section 550 governing security at high-risk chemical facilities. CFATS represents a national-level effort to minimize terrorism risk to such facilities. Its design and implementation balance maintaining economic vitality with securing facilities and their surrounding communities. The regulations were designed, in collaboration with the private sector and other stakeholders, to take advantage of protective measures already in place and to allow facilities to employ a wide range of tailored measures to satisfy the regulations' Risk-Based Performance Standards (RBPS).

CFATS also establishes, in 6 CFR 27.400, the requirements that covered persons must follow to safeguard certain documents and other information developed under the regulations. This information is identified as “Chemical-terrorism Vulnerability Information” (CVI) and by law receives protection from public disclosure and misuse.

The instruments within this collection will be used to manage the CVI program in support of CFATS.

Solicitation of Comments

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency

Department of Homeland Security, Office of the Under Secretary for National Protection and Programs Directorate, Office of Infrastructure Protection, Infrastructure Security Compliance Division.

Title: CFATS Chemical-terrorism Vulnerability Information: OMB Number: 1670-NEW.

Chemical-Terrorism Vulnerability Information Authorization

Frequency: On occasion.

Affected Public: Private Sector.

Number of Respondents: 8,073.

Estimated Time per Respondent: 1 hour.

Total Burden Hours: 8,073 hours.

Total Burden Cost (Capital/Startup): $0.00.

Total Burden Cost (Operating/Maintaining): $645,840.

Determination of CVI

Frequency: On occasion.

Affected Public: CVI Authorized Users.

Number of Respondents: 250.

Estimated Time per Respondent: 0.25 hours.

Total Burden Hours: 62.5 hours.

Total Burden Cost (Capital/Startup): $0.00.

Total Burden Cost (Operating/Maintaining): $5,000.

Determination of a “Need To Know”

Frequency: On occasion.

Affected Public: CVI Authorized Users.

Number of Respondents: 12,500.

Estimated Time per Respondent: 0.25 hours.

Total Burden Hours: 3,125 hours.

Total Burden Cost (Capital/Startup): $0.00.

Total Burden Cost (Operating/Maintaining): $250,000.

Disclosure of CVI Information

Frequency: On occasion.

Affected Public: CVI Authorized Users.

Number of Respondents: 250.

Estimated Time per Respondent: 0.25 hours.

Total Burden Hours: 62.5 hours.

Total Burden Cost (Capital/Startup): $0.00.

Total Burden Cost (Operating/Maintaining): $5,000.

Notification of Emergency or Exigent Circumstances

Frequency: On occasion.

Affected Public: CVI Authorized Users.

Number of Respondents: 250.

Estimated Time per Respondent: 0.25 hours.

Total Burden Hours: 62.5 hours

Total Burden Cost (Capital/Startup): $0.00.

Total Burden Cost (Operating/Maintaining): $5,000.

Tracking Log for CVI Received

Frequency: On occasion.

Affected Public: CVI Authorized Users.

Number of Respondents: 25,000.

Estimated Time per Respondent: 0.08 hours.

Total Burden Hours: 24,000 hours.

Total Burden Cost (Capital/Startup): $0.00.

Total Burden Cost (Operating/Maintaining): $1,920,000.

Signed: June 24, 2009.
Philip Reitinger,
Deputy Under Secretary, National Protection and Programs Directorate, Department of Homeland Security.

[FR Doc. E9-15481 Filed 6-30-09; 8:45 am]

BILLING CODE 9110-9P-P